NATIONAL AERONAUTICS AND SPACE ADMINISTRATION

[Notice: (16-075)]

NASA Advisory Council; Human Exploration and Operations Committee; Meeting

AGENCY: National Aeronautics and Space Administration.

ACTION: Notice of meeting.

SUMMARY: In accordance with the Federal Advisory Committee Act, Public Law 92-463, as amended, the National Aeronautics and Space Administration (NASA) announces a meeting of the Human Exploration and Operations (HEO) Committee of the NASA Advisory Council (NAC). This Committee reports to the NAC.

DATES: Monday, November 14, 2016, 9:30 a.m.-5:30 p.m., Local Time.

ADDRESSES: NASA Johnson Space Center, Gilruth Center, Lone Star Room, 2101 East NASA Parkway, Houston, TX 77058.

FOR FURTHER INFORMATION CONTACT: Dr. Bette Siegel, Executive Secretary for the NAC HEO Committee, Human Exploration and Operations Mission Directorate, NASA Headquarters, Washington, DC 20546, (202) 358-2245, or bette.siegel@nasa.gov.

SUPPLEMENTARY INFORMATION: The meeting will be open to the public up to the seating capacity of the room. This meeting is also available telephonically and by WebEx. You must use a touch-tone phone to participate in this meeting. Any interested person must call 800-369-1956, and then the numeric passcode: 1504860 followed by then # sign. If dialing in, please “mute” your telephone. The WebEx link is https://nasa.webex.com/, the meeting number is 993 965 652 and the password is 1114Welcome! (case sensitive). The agenda for the meeting includes the following topics:

• Status of NASA Human Exploration and Operations Mission Directorate

• Status of Exploration Systems Development

• Status of International Space Station

• Status of Commercial Crew Program

• Status of Human Research Program

Attendees will be required to sign a register. It is imperative that the meeting be held on this date to accommodate the scheduling priorities of the key participants.

Carol J. Hamilton,
Acting Advisory Committee Management Officer, National Aeronautics and Space Administration.

[FR Doc. 2016-25614 Filed 10-21-16; 8:45 am]

BILLING CODE 7510-13-P